DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will provide information for use in an impact evaluation of DOE's Solar Decathlon Program. The collection consists of four questionnaires addressed to (1) homeowners who visited a Solar Decathlon, (2) homeowners who did not visit a Solar Decathlon, (3) former students who participated in their school's Solar Decathlon entry, and (4) former students who did not participate in a Solar Decathlon entry. The questionnaires will collect information on the respondents' knowledge of solar energy and energy efficiency and on installations of solar-energy and energy-efficiency equipment with which the respondents have been personally involved. The former-student questionnaires will also collect information on types of employment since leaving college.

DATES: Comments regarding this collection must be received on or before September 7, 2010. If you anticipate that you will be submitting comments, but find it difficult to do so within the period of time allowed by this notice, please advise the DOE Desk Officer at OMB of your intention to make a submission as soon as possible. The Desk Officer may be telephoned at 202-395-4650.

ADDRESSES: Written comments should be sent to the:

DOE Desk Officer, Office of Information and Regulatory Affairs, Office of Management and Budget, New Executive Office Building, Room 10102, 735 17th Street, NW., Washington, DC 20503; And to:

Jeffery Dowd, Solar Decathlon Evaluation Lead, EE-3B, Forrestal Building, U.S. Department of Energy, 1000 Independence Avenue, SW., Washington, DC 20585, (O) 202-586-7258, (Fax) 202-586-2176, Jeff.Dowd@ee.doe.gov.

FOR FURTHER INFORMATION CONTACT:

Jeffery Dowd, Solar Decathlon Evaluation Lead, EE-3B, Forrestal Building, U.S. Department of Energy, 1000 Independence Avenue, SW., Washington, DC 20585, (O) 202-586-7258, (Fax) 202-586-2176, Jeff.Dowd@ee.doe.gov.

SUPPLEMENTARY INFORMATION: This information collection request contains: (1) OMB No. New; (2) Information Collection Request Title: DOE Solar Decathlon Impact Evaluation Surveys; (3) Type of Request: New collection; (4) Purpose: The information collected by this information collection will be used for an impact evaluation of the Solar Decathlon Program. The evaluation will contribute to the effective administration, monitoring, and management of the Solar Decathlon Program; and for measuring attainment of DOE's program goals as required by the Government Performance and Results Act and the Office of Management and Budget's Program Assessment Rating Tool. The likely respondents are homeowners and former college students as described in the SUMMARY; (5) Annual Estimated Number of Respondents: 810; (6) Annual Estimated Number of Total Responses: 810; (7) Annual Estimated Number of Burden Hours: 104; (8) Annual Estimated Reporting and Recordkeeping Cost Burden: None.

Statutory Authority: Department of Energy Organization Act of 1977 (42 U.S.C. 5815(b)); Government Performance and Results Act (31 U.S.C. 1115(a)); Executive Order 13450, November 13, 2007; and Memo, Peter R. Orszag, Director, Office of Management and Budget, “Increased Emphasis on Program Evaluations,” dated October 7, 2009.

Issued in Washington, DC, on July 21, 2010.
Scott Hine,
Acting Deputy Assistant Secretary-Business Administration (DAS-BA), Office of Energy Efficiency and Renewable Energy.

[FR Doc. 2010-19404 Filed 8-5-10; 8:45 am]

BILLING CODE 6450-01-P